OFFICE OF PERSONNEL MANAGEMENT

Notice of Submission for Approval: Information Collection 3206-0266; Privacy Act Request for Completed Standard Form SF85/SF85P/SF86, INV 100A

AGENCY: U.S. Office of Personnel Management.

ACTION: 30-Day notice and request for comments.

SUMMARY: The Federal Investigative Services (FIS), U.S. Office of Personnel Management (OPM) is notifying the general public and other Federal agencies that OPM is seeking Office of Management and Budget (OMB) approval of a revised information collection, control number 3206-0266, Privacy Act Request for Completed Standard Form SF85/SF85P/SF86, INV 100A. As required by the Paperwork Reduction Act of 1995, (Pub. L. 104-13, 44 U.S.C. chapter 35), as amended by the Clinger-Cohen Act (Pub. L. 104-106), OPM is providing an additional 30 days for public comments. OPM previously solicited comments for this collection, with a 60-day public comment period, at 81 FR 7847 (February 16, 2016).

DATES: Comments are encouraged and will be accepted until May 31, 2016. This process is conducted in accordance with 5 CFR 1320.10.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this information collection, with applicable supporting documentation, may be obtained by contacting Federal Investigative Services, U.S. Office of Personnel Management, 1900 E Street NW., Washington, DC 20415, Attention: Donna McLeod or by electronic mail at FISFormsComments@opm.gov.

SUPPLEMENTARY INFORMATION: This notice announces that OPM has submitted to OMB a request for review and clearance of a revised information collection, control number 3206-0266, Privacy Act Request for Completed Standard Form SF85/SF85P/SF86, INV 100A. The public has an additional 30-day opportunity to comment.

The Privacy Act Request for Completed Standard Form SF 85/SF 85P/SF86, INV 100A, is an information collection completed by individuals seeking access to their most recently completed SF85, SF 85P, or SF 86 that was used to initiate a background investigation performed by the Office of Personnel Management (OPM), Federal Investigative Services (FIS). OPM FIS's Freedom of Information and Privacy Act (FOI/PA) office utilizes the optional form INV 100A to standardize the collection of data elements specific to Privacy Act record requests for previously completed standard forms only. Current Privacy Act record requests are submitted to FIS-FOI/PA in a format chosen by the requester. Often the requests are missing data elements which require contact with the requester, thereby adding processing time. Standardization of the data elements collected can assist with providing timely responses and FIS-FOI/PA being able to verify the identity of the requester thereby ensuring Privacy Act Protected records are not inappropriately released to third parties.

OPM proposes no changes to the form. No comments were received.

Analysis

Agency: Federal Investigative Services, U.S. Office of Personnel Management.

Title: Privacy Act Request for Completed Standard Form SF85/SF85P/SF86, INV 100A.

OMB Number: 3206-0266.

Affected Public: Individuals submitting privacy Act record requests for completed Standard Form SF85/SF85P/SF86 to FIS-FOI/PA.

Number of Respondents: 15,682.

Estimated Time per Respondent: 5 minutes.

Total Burden Hours: 1,307.

U.S. Office of Personnel Management.
Beth F. Cobert,
Acting Director.

[FR Doc. 2016-10061 Filed 4-28-16; 8:45 am]

BILLING CODE 6325-53-P